DEPARTMENT OF HOUSING AND URBAN DEVELOPMENT

[Docket No. FR-5186-N-29]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Veronica Rines, Headquarters, Department of the Army, Office of the Assistant Chief of Staff for Installation Management, 2511 Jefferson Davis Hwy, Arlington, VA 22202; (703) 601-2545; COAST GUARD: Commandant (G-SEC), USCG, Attn: Melissa Evans, 1900 Half St., SW., CG-431, Washington, DC 20593; (202) 475-5628; GSA: Mr. John Smith, Deputy Assistant Commissioner, General Services Administration, Office of Property Disposal, 18th & F Streets, NW., Washington, DC 20405; (202) 501-0084; NAVY: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: July 10, 2008.
Mark R. Johnston,
Deputy Assistant Secretary for Special Needs.

Title V, Federal Surplus Property Program Federal Register Report for 07/18/2008

Suitable/Available Properties

Building

New York

Caywood Pt. Mess Hall

Maint. Bldg.

State Rt 114

Lodi NY

Landholding Agency: GSA

Property Number: 54200830001

Status: Surplus

GSA Number: 1-A-NY-0946-1A

Comments: 6000 sq. ft. mess hall, 1536 sq. ft. maint bldg, off-site use only

Land

Texas

FAA Outer Marker 13

Southlake TX 76092

Landholding Agency: GSA

Property Number: 54200830002

Status: Surplus

GSA Number: 7-U-TX-1096

Comments: 0.569 acre, radar facility

FAA Outer Marker 36L

Grand Prairie TX 75050

Landholding Agency: GSA

Property Number: 54200830003

Status: Surplus

GSA Number: 7-U-TX-1101

Comments: 0.401 acre, radar facility

Unsuitable Properties

Building

California

Bldgs. 60180, 60139

San Clemente Island

Naval Base

Coronado CA

Landholding Agency: Navy

Property Number: 77200830001

Status: Excess

Reasons: Secured Area

Bldg. 148

Naval Amphibious Base

Coronado CA

Landholding Agency: Navy

Property Number: 77200830002

Status: Excess

Reasons: Secured Area

Bldgs. 13, 87, 124, 243

Naval Air Station

North Island CA

Landholding Agency: Navy

Property Number: 77200830003

Status: Excess

Reasons: Secured Area

Unsuitable Properties

Building

California

5 Bldgs.

Naval Air Station

307, 311, 314, 341, 381

North Island CA

Landholding Agency: Navy

Property Number: 77200830004

Status: Excess

Reasons: Secured Area

Bldgs. 493

Naval Air Station

North Island CA

Landholding Agency: Navy

Property Number: 77200830005

Status: Excess

Reasons: Secured Area

Bldgs. 636, 663, 682

Naval Air Station

North Island CA

Landholding Agency: Navy

Property Number: 77200830006

Status: Excess

Reasons: Secured Area

Bldgs. 710, 784

Naval Air Station

North Island CA

Landholding Agency: Navy

Property Number: 77200830007

Status: Excess

Reasons: Secured Area

Unsuitable Properties

Building

California

Bldgs. 802, 809, 826

Naval Air Station

North Island CA

Landholding Agency: Navy

Property Number: 77200830008

Status: Excess

Reasons: Secured Area

Bldgs. 983, 1459

Naval Air Station

North Island CA

Landholding Agency: Navy

Property Number: 77200830009

Status: Excess

Reasons: Secured Area

Bldg. 33005

Naval Air Weapons Station

China Lake CA 93555

Landholding Agency: Navy

Property Number: 77200830011

Status: Excess

Reasons: Secured Area; Within 2000 ft. of flammable or explosive material; Extensive deterioration

Unsuitable Properties

Building

California

Motor Life Boat Pier

USCG Station

Samoa Co: Humboldt CA 95564

Landholding Agency: Coast Guard

Property Number: 88200830001

Status: Unutilized

Reasons: Extensive deterioration

North Carolina

Frying Pan Light Station

Atlantic Ocean NC

Landholding Agency: GSA

Property Number: 54200830004

Status: Excess

GSA Number: 4-U-NC-0749

Reasons: Floodway Not accessible by road

Pennsylvania

Bldg. 00257

Carlisle Barracks

Cumberland PA 17013

Landholding Agency: Army

Property Number: 21200830001

Status: Excess

Reasons: Extensive deterioration

Unsuitable Properties

Land

New Hampshire

274.71 acres

Berlin Co: Coos NH 03570

Landholding Agency: GSA

Property Number: 54200830005

Status: Excess

GSA Number: 1-J-NH-0501

Reasons: Other—landlocked

South Carolina

Laurel Bay Tract

Marine Corps Air Station

Beaufort SC

Landholding Agency: Navy

Property Number: 77200830010

Status: Excess

Reasons: Secured Area

[FR Doc. E8-16135 Filed 7-17-08; 8:45 am]

BILLING CODE 4210-67-P